DEPARTMENT OF COMMERCE

International Trade Administration

[A-588-824]

Certain Corrosion-Resistant Carbon Steel Flat Products From Japan: Rescission of Antidumping Duty Administrative Review

AGENCY: Import Administration, International Trade Administration, Department of Commerce.

ACTION: Notice of rescission of antidumping duty administrative review.

SUMMARY: On October 1, 1999, the Department of Commerce published in the Federal Register (64 FR 53318) a notice announcing the initiation of an administrative review of the antidumping duty order on Certain Corrosion-Resistant Carbon Steel Flat Products from Japan for two producers/exporters, Nippon Steel Corporation (“Nippon”) and Kawasaki Steel Corporation (“Kawasaki”), covering the period of review (“POR”), which is August 1, 1998 through July 31, 1999. The Department of Commerce has now rescinded this review with respect to Kawasaki as a result of the absence of Kawasaki's shipments and entries into the United States of subject merchandise during the period of review. In addition, it has rescinded the review with respect to Nippon at the request of petitioners, the only party that requested the review.

EFFECTIVE DATE: March 17, 2000.

FOR FURTHER INFORMATION CONTACT: Doreen Chen, Brandon Farlander, or Rick Johnson, Office 9, AD/CVD Enforcement Group III, Import Administration, International Trade Administration, U.S. Department of Commerce, 14th Street and Constitution Avenue, N.W., Washington, D.C. 20230; telephone: (202) 482-0408, (202) 482-0182 or (202) 482-3818, respectively.

SUPPLEMENTARY INFORMATION:

Applicable Statute and Regulations

Unless otherwise indicated, all citations to the Tariff Act of 1930, as amended, are to the provisions effective January 1, 1995, the effective date of the amendments made to the Tariff Act by the Uruguay Round Agreements Act (URAA). In addition, unless otherwise indicated, all citations to the Department of Commerce's (the Department's) regulations are to the regulations codified at 19 CFR Part 351 (1999).

Background

The Department published in the Federal Register on August 11, 1999 (64 FR 43649) a “Notice of Opportunity to Request Administrative Review” of the antidumping duty order on Certain Corrosion-Resistant Carbon Steel Flat Products from Japan. On August 31, 1999, petitioners requested that the Department conduct an administrative review of this order with respect to Nippon and Kawasaki.

On October 1, 1999, the Department initiated an administrative review for the period August 1, 1998—July 31, 1999 (64 FR 53318). On October 4, 1999, the Department issued questionnaires to Nippon and Kawasaki.

Kawasaki

On October 25, 1999, Kawasaki reported that it made no sales of the subject merchandise during the POR. On January 4, 2000, we issued a supplemental questionnaire to Kawasaki requesting that it answer additional questions concerning its statement that it did not have any sales to the United States during the POR. On January 11, 2000, Kawasaki submitted a response confirming that neither it nor any of its affiliated producers made sales of the subject merchandise to the United States during the POR. Also, Kawasaki stated that none of its subject merchandise sold to third countries during the POR was shipped to the United States. Finally, Kawasaki stated that, to the best of its knowledge, none of its third-party sales of the subject merchandise or the third-party sales of the subject merchandise made by affiliated producers, was ultimately destined for the United States. Additionally, we have reviewed U.S. Customs data, which confirms that there were no entries during the POR of merchandise produced or exported by Kawasaki. Finally, on February 10, 2000, we contacted petitioner and asked if petitioner was aware of any shipments made by Kawasaki during the POR. On February 23, 2000, petitioner confirmed that it had no information on Kawasaki's shipments to the United States during the POR. Therefore, we have determined that Kawasaki made no entries of subject merchandise into the customs territory of the United States during the POR.

Pursuant to 19 CFR 351.213(d)(3), the Department may rescind an administrative review, in whole or only with respect to a particular exporter or producer, if the Secretary concludes that, during the period covered by the review, there were no entries, exports, or sales of the subject merchandise. In light of the fact that we determined that Kawasaki had no entries of the subject merchandise into the territory of the United States during the POR, we are rescinding this review for Kawasaki. The rate for Kawasaki will remain as that established in the most recently completed segment of this proceeding with respect to Kawasaki.

Nippon

On November 2, 1999, Nippon submitted section A of its questionnaire response. On December 10, 1999, it submitted sections B through D, and on December 27, it filed its response to question III.B of the Department's section D questionnaire.

On December 30, 1999, petitioners requested that the Department rescind the review with respect to Nippon. Petitioners were the only party requesting the review and their request for withdrawal was made within 90 days of the date of publication of the notice of initiation in accordance with section 351.213(d)(1) of the Department's regulations. The Department is therefore rescinding the review with respect to Nippon in accordance with that regulation.

This notice is issued and published in accordance with 19 CFR 351.213(d)(4).

Dated: March 3, 2000.
Joseph A. Spetrini,
Deputy Assistant Secretary, AD/CVD Enforcement Group III.

[FR Doc. 00-6689 Filed 3-16-00; 8:45 am]

BILLING CODE 3510-DS-P